DEPARTMENT OF STATE

[Public Notice: 11412]

Bureau of Political-Military Affairs, Directorate of Defense Trade Controls: Notifications to the Congress of Proposed Commercial Export Licenses

AGENCY: Department of State.

ACTION: Notice.

SUMMARY: The Directorate of Defense Trade Controls and the Department of State give notice that the attached Notifications of Proposed Commercial Export Licenses were submitted to the Congress on the dates indicated.

DATES: As shown on each of the 29 letters.

FOR FURTHER INFORMATION CONTACT: Ms. Paula C. Harrison, Directorate of Defense Trade Controls (DDTC), Department of State at (202) 663-3310; or access the DDTC website at https://www.pmddtc.state.gov/ddtc_public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner. The following comprise recent such notifications and are published to give notice to the public.

December 22, 2020

The Honorable Nancy Pelosi, Speaker of the House of Representatives

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Canada, UK, and Iraq to support the training, maintenance, repair, sustainment, and supply functions of the M1A1/M1A1SA Abrams Main Battle Tank, the M88A1/M88A2 recovery vehicle, and associated equipment.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-041.

December 22, 2020

The Honorable Nancy Pelosi, Speaker of the House of Representatives

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Norway, Australia, and Saudi Arabia associated with the sale, delivery and support of the Al Diriyah Command, Control, Communications Computers and intelligence (C4I) System.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-053.

December 22, 2020

The Honorable Nancy Pelosi, Speaker of the House of Representatives

Dear Madam Speaker:

Pursuant to Section 36(c) of the Arms Export Control Act, please find enclosed a certification of a proposed license for the export of firearms abroad controlled under Category I of the U.S. Munitions List in the amount of $1,000,000 or more.

The transaction contained in the attached certification involves the export to the Philippines of 5.56mm automatic rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-088.

December 22, 2020

The Honorable Nancy Pelosi, Speaker of the House of Representatives

Dear Madam Speaker:

Pursuant to Section 36(c) of the Arms Export Control Act, please find enclosed a certification of a proposed license for the export of firearms parts and components abroad controlled under Category I of the U.S. Munitions List in the amount of $1,000,000 or more.

The transaction contained in the attached certification involves the export of defense articles, including technical data and defense services, to Mexico for the assembly of automatic rifle kits.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-100.

December 22, 2020

The Honorable Nancy Pelosi, Speaker of the House of Representatives

Dear Madam Speaker:

Pursuant to Sections 36 (c) and (d) of the Arms Export Control Act, please find enclosed a certification of a proposed amendment for the manufacture of significant military equipment abroad and the export of defense articles, including technical data and defense services, in the amount of $50,000,000 or more.

The transaction contained in the attached certification involves the export of defense articles, including technical data and defense services, to Saudi Arabia, UK, Spain, and Italy to support the assembly, design, development, intermediate level maintenance, manufacture, modification, operation, repair, testing, and demilitarization of the Paveway and Enhanced Paveway Weapon System.

The U.S. government is licensing the export of these items having taken into account political, military, economic, human rights, and arms control considerations. More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-105.

October 7, 2020

The Honorable Nancy Pelosi, Speaker of the House of Representatives

Dear Madam Speaker:

Pursuant to Sections 36(c) and (d) of the Arms Export Control Act, please find enclosed a certification of a proposed license for the manufacture of significant military equipment abroad and the export of defense articles, including technical data, and defense services in the amount of $50,000,000 or more.

The transaction contained in the attached certification involves the export of defense articles, including technical data, and defense services to Italy, Qatar, Spain, and the UK to support the design, development, manufacture, production, assembly, testing, repair, intermediate level maintenance, training, modification, operation and integration of the Paveway II, Enhanced Paveway II, and Paveway IV weapons systems.

The U.S. government is prepared to license the export of these items having taken into account political, military, economic, human rights, and arms control considerations. More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 19-120.

December 14, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Australia and Norway for AMRAAM, AIM-9X, Canister Launchers, High Mobility Launchers, and associated hardware to support the design, development, engineering, integration, and support to the LAND-19 Phase 7B NASAMS.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-126.

December 16, 2020

The Honorable Nancy Pelosi, Speaker of the House of Representatives

Dear Madam Speaker:

Pursuant to Section 36(c) of the Arms Export Control Act, please find enclosed a certification of a proposed license for the export of defense articles, including technical data, and defense services in the amount of $50,000,000 or more.

The transaction contained in the attached certification involves the export of defense articles, including technical data, and defense services, to Italy to support the replication of Have Quick II and SATURN Electronic Counter-Counter Measure (ECCM) for integration into Radio Communication Equipment.

The U.S. government is prepared to license the export of these items having taken into account political, military, economic, human rights, and arms control considerations.

Sincerely,

Ryan M. Kaldahl,

Acting Assistant Secretary of State, Bureau of Legislative Affairs.

Enclosure: Transmittal No. DDTC 20-026.

October 21, 2020

The Honorable Nancy Pelosi, Speaker of the House of Representatives

Dear Madam Speaker:

Pursuant to Section 36(c) of the Arms Export Control Act, please find enclosed a certification of a proposed license for the export of defense articles, including technical data, and defense services in the amount of $50,000,000 or more.

The transaction contained in the attached certification involves the export of defense articles, technical data, and defense services to France, UK, Italy, the Netherlands, and the UAE to support the installation, integration, engineering/design services, ship combat system integration, testing, operation, live-fire/demonstration, proposal activity, Intermediate Level Maintenance Facility (ILMF), recertification, training (including maintenance training), upgrades, repair, and follow-on support on ships for the Rolling Airframe Missile (RAM) Guided Missile Weapon System (GMWS).

The U.S. government is prepared to license the export of these items having taken into account political, military, economic, human rights, and arms control considerations.

Sincerely,

Jessica L. Moore,

Senior Bureau Official, Bureau of Legislative Affairs.

Enclosure: Transmittal No. DDTC 20-027.

December 16, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, technical data, and defense services to Australia, Canada, the Netherlands, and the UK necessary for the Organizational and Depot level training and Maintenance, Repair, Overhaul and Upgrade (MRO&U) for the F135 propulsion system at regional depots in Australia and the Netherlands.

The U.S. government is prepared to license the export of these items having taken into account political, military, economic, human rights, and arms control considerations.

Sincerely,

Ryan M. Kaldahl,

Acting Assistant Secretary of State, Bureau of Legislative Affairs.

Enclosure: Transmittal No. DDTC 20-028.

December 16, 2020

The Honorable Nancy Pelosi, Speaker of the House of Representatives

Dear Madam Speaker:

Pursuant to Section 36(d) of the Arms Export Control Act, please find enclosed a certification of a proposed license amendment for the export of defense articles, including technical data, and defense services for the manufacture of significant military equipment abroad.

The transaction contained in the attached certification involves the export of technical data and defense services, to France for the manufacture of Have Quick I/II Electronic Counter-Countermeasures (ECCM) and SATURN ECCM.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-033.

October 22, 2020

The Honorable Nancy Pelosi, Speaker of the House of Representatives

Dear Madam Speaker:

Pursuant to Section 36(d) of the Arms Export Control Act, please find enclosed a certification of a proposed license for the export of defense articles, including technical data, and defense services for the manufacture of significant military equipment abroad.

The transaction contained in the attached certification involves the export of defense articles, including technical data and defense services, to Israel for the manufacture of five Mini-MD STAMP: Gimbaled Laser Target Designator (GLTD) systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 20-034.

December 16, 2020

The Honorable Nancy Pelosi, Speaker of the House of Representatives

Dear Madam Speaker:

Pursuant to Section 36(d) of the Arms Export Control Act, please find enclosed a certification of a proposed license for the export of defense articles, including technical data, and defense services for the manufacture of significant military equipment abroad.

The transaction contained in the attached certification involves the export of defense articles, including technical data and defense services, to Italy, Oman, and the UK to support the design, development, manufacture, production, assembly, testing, repair, intermediate level maintenance, training, modification, operation, marketing, and integration of the Paveway II, Enhanced Paveway II, and Paveway IV Weapon System.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-035.

December 16, 2020

The Honorable Nancy Pelosi, Speaker of the House of Representatives

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Sweden, the UK, and Brazil to support the sale of F414-GE-39E aircraft engines for use with Gripen combat aircraft and training on the integration, operation, test, and operational level maintenance of the engine.

The U.S. government is prepared to license the export of these items having taken into account political, military, economic, human rights, and arms control considerations.

More detailed information is contained in the formal certification which, though unclassified, contains business information submitted to the Department of State by the applicant, publication of which could cause competitive harm to the U.S. firm concerned.

Sincerely,

Rylan M. Kaldahl,

Acting Assistant Secretary of State, Bureau of Legislative Affairs.

Enclosure: Transmittal No. DDTC 20-037.

December 14, 2020

The Honorable Nancy Pelosi, Speaker of the House of Representatives

Dear Madam Speaker:

Pursuant to Section 36(c) of the Arms Export Control Act, please find enclosed a certification of a proposed license for the export of defense articles, including technical data and defense services, in the amount of $50,000,000 or more.

The transaction contained in the attached certification involves the export of defense articles, technical data, and defense services, to Algeria and Greece to permit the parties to have technical discussions to define support requirements and discuss potential aircraft configurations for procurement of four C-130J-30 cargo aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Rylan M. Kaldahl,

Acting Assistant Secretary of State, Bureau of Legislative Affairs.

Enclosure: Transmittal No. DDTC 20-040.

December 16, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, technical data, and defense services to Canada to support the manufacture of integrally bladed rotors (IBRs) for the F135 propulsion system.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-041.

October 23, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Canada to support the design, development, engineering, assembly, operation, production, manufacture, testing, maintenance, repair, replacement, improvement, enhancement, modification and destruction of opto-mechanical assemblies, subassemblies, and components for existing and next generation (3rd Gen) Forward Looking Infrared (FLIR) technology.

The U.S. government is prepared to license the export of these items having taken into account political, military, economic, human rights, and arms control considerations.

More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 20-043.

November 12, 2020

The Honorable Nancy Pelosi, Speaker of the House of Representatives

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Canada, Denmark, France, Republic of Korea, Taiwan and the UK to support the integration, installation, operation, training, testing, maintenance, and repair of the Modular Scalable Sonar System.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-044.

October 22, 2020

The Honorable Nancy Pelosi, Speaker of the House of Representatives

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Taiwan to support the Taiwan Advance Air Defense Systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 20-045.

October 23, 2020

The Honorable Nancy Pelosi, Speaker of the House of Representatives

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Australia and Saudi Arabia for the delivery, installation, assembly, inspection, and testing of the Patriot Air Missile Defense System Deep Maintenance and Refurbishment (DMR) program.

The U.S. government is prepared to license the export of these items having taken into account political, military, economic, human rights, and arms control considerations.

More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 20-046.

December 16, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Italy, France, and Germany to support the manufacture of components for GE38-1B/T408-GE-400 and GE38-1C engines used on CH-53K and CH-47 helicopters.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-047.

October 23, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Japan to support the incoming inspection, diagnostic testing, disassembly, repair, reassembly, and verification testing for Patriot PAC-3 4-Pack Munition Assemblies (CRI) and 1-Pack Munition Assemblies (MSE) and associated subassemblies.

The U.S. government is prepared to license the export of these items having taken into account political, military, economic, human rights, and arms control considerations.

More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 20-048.

December 14, 2020

The Honorable Nancy Pelosi, Speaker of the House of Representatives

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Thailand of M16A4 5.56 mm automatic rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-049.

December 16, 2020

The Honorable Nancy Pelosi, Speaker of the House of Representatives

Dear Madam Speaker:

Pursuant to Sections 36(c) and (d) of the Arms Export Control Act, please find enclosed a certification of a proposed license for the manufacture of significant military equipment abroad and the export of firearms, parts, and components abroad controlled under Category I of the U.S. Munitions List in the amount of $1,000,000 or more.

The transaction contained in the attached certification involves the export of defense articles, including technical data and defense services, to Canada to support the manufacture and testing of automatic firearm parts, silencers, associated parts, and components.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-050.

November 5, 2020

The Honorable Nancy Pelosi, Speaker of the House of Representatives

Dear Madam Speaker:

Pursuant to Section 36(c) of the Arms Export Control Act, please find enclosed a certification of a proposed license for the export of defense articles, including technical data and defense services, in the amount of 100,000,000 or more.

The transaction contained in the attached certification involves the export of defense articles, including technical data and defense services, to Australia to support the integration, installation, operation, training, testing, maintenance, and repair of the fleet of C-130J Hercules aircraft fleet and common C-27J aircraft parts.

The U.S. government is prepared to license the export of these items having taken into account political, military, economic, human rights, and arms control considerations.

More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 20-058.

October 23, 2020

The Honorable Nancy Pelosi, Speaker of the House of Representatives

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to the UK of 5.56 mm, 7.62 mm, and .300 blackout automatic rifles, major component parts, and suppressors.

The U.S. government is prepared to license the export of these items having taken into account political, military, economic, human rights, and arms control considerations.

More detailed information is contained in the formal certification which, though unclassified, contains business information submitted to the Department of State by the applicant, publication of which could cause competitive harm to the U.S. firm concerned.

Sincerely,

Jessica L. Moore,

Senior Bureau Official, Bureau of Legislative Affairs.

Enclosure: Transmittal No. DDTC 20-062.

December 14, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the Netherlands and the UK to support the manufacture of the F-35 (all variants) in-flight operating doors and drag chute assemblies, including subassemblies, for the F-35 aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-063.

December 22, 2020

The Honorable Nancy Pelosi, Speaker of the House of Representatives

Dear Madam Speaker:

Pursuant to Sections 36(c) and (d) of the Arms Export Control Act, please find enclosed a certification of a proposed license for the manufacture of significant military equipment abroad and the export of firearms components abroad controlled under Category I of the U.S. Munitions List in the amount of $1,000,000 or more.

The transaction contained in the attached certification involves the export of defense articles, including technical data and defense services, to Canada to support the manufacture and testing of silencers, associated parts, and components.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-069.

December 16, 2020

The Honorable Nancy Pelosi, Speaker of the House of Representatives

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Norway to support the manufacture of Communications, Navigation, and Identification (CNI) modules, CNI power supplies and digital boards for the F-35 Joint Strike Fighter aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-071.

Paula Harrison,
Senior Management Analyst, Directorate of Defense Trade Controls, U.S. Department of State.

[FR Doc. 2021-08646 Filed 4-23-21; 8:45 am]

BILLING CODE 4710-25-P